OFFICE OF THE UNITED STATES TRADE REPRESENTATIVE

Notice of Meeting of the Industry Trade Advisory Committee on Small and Minority Business (ITAC-11)

AGENCY: Office of the United States Trade Representative.

ACTION: Notice of a Partially Open Meeting.

SUMMARY: The Industry Trade Advisory Committee on Small and Minority Business (ITAC-11) will hold a meeting on Monday, December 8, 2014. The meeting will be open to the public from 1:00 p.m. to 3:30 p.m.

DATES: The meeting is scheduled for December 8, 2014, unless otherwise notified.

ADDRESSES: The meeting will be held at the U.S. Department of Commerce, 1401 Constitution Avenue NW., Room 1412, Washington, DC 20230.

FOR FURTHER INFORMATION CONTACT: Laura Hellstern, DFO for ITAC-11 at (202) 482-3222, Department of Commerce, 1401 Constitution Avenue NW., Washington, DC 20230.

SUPPLEMENTARY INFORMATION: The open agenda topics to be discussed are the Export-Import Bank Reauthorization and the International Trade Administration's Trade Barrier Reduction Efforts for U.S. Businesses.

Luis Jimenez,
Acting Assistant U.S. Trade Representative, for Intergovernmental Affairs and Public Engagement.

[FR Doc. 2014-27735 Filed 11-21-14; 8:45 am]

BILLING CODE 3290-F5-P